DEPARTMENT OF HEALTH AND HUMAN SERVICES

National Institutes of Health

Center for Scientific Review; Amended Notice of Meeting

Notice is hereby given of a change in the meeting of the Center for Scientific Review Special Emphasis Panel, November 7, 2001, 6 p.m. to November 8, 2001, 4 p.m., Embassy Square, 2000 N Street, NW., Washington, DC 20036 which was published in the Federal Register on October 23, 2001, 66 FR 53623-53626.

The meeting will be held at the Washington Marriott Hotel, 1221 22nd Street, NW., Washington, DC 20037. The time and dates remain the same. The meeting is closed to the public.

Dated: November 1, 2001.
LaVerne Y. Stringfield,
Director, Office of Federal Advisory Committee Policy.

[FR Doc. 01-28328 Filed 11-9-01; 8:45 am]

BILLING CODE 4140-01-M